CONSUMER PRODUCT SAFETY COMMISSION

Sunshine Act Meetings

TIME AND DATE: Wednesday, October 11, 2023—10:00 a.m. (See MATTERS TO BE CONSIDERED for each meeting).

PLACE: Room 420, Bethesda Towers, 4330 East West Highway, Bethesda, MD.

STATUS: Commission Meetings—Open to the Public.

MATTERS TO BE CONSIDERED:

Decisional Matter (postponed from October 4, 2023): Notice of Proposed Rulemaking—Safety Standard for Infant Rockers and Infant/Toddler Rockers.

Decisional Matter: Notice of Proposed Rulemaking—Safety Standard for Residential Gas Furnaces and Boilers.

Briefing Matter: FY 2024 Operating Plan.

A live webcast of the meetings can be viewed at the following link: https://cpsc.webex.com/weblink/register/rcba2daff690fcdbc61d969fd800c6446.

CONTACT PERSON FOR MORE INFORMATION: Alberta E. Mills, Office of the Secretary, U.S. Consumer Product Safety Commission, 4330 East West Highway, Bethesda, MD 20814, 301-504-7479 (Office) or 240-863-8938 (Cell).

Dated: October 4, 2023.
Alberta E. Mills,
Commission Secretary.

[FR Doc. 2023-22449 Filed 10-5-23; 11:15 am]

BILLING CODE P